DEPARTMENT OF THE INTERIOR

National Park Service

[NPS-WASO-CR-NHAP-NPS0030768; PPWOCRADI0, PCU00RP14.R50000 (211); OMB Control Number 1024-NEW]

Agency Information Collection Activities; Submission to the Office of Management and Budget for Review and Approval; National Heritage Areas Program Annual Reporting Forms

AGENCY: National Park Service, Interior.

ACTION: Notice of information collection; request for comment.

SUMMARY: In accordance with the Paperwork Reduction Act of 1995, we, the National Park Service (NPS) are proposing a new information collection.

DATES: Interested persons are invited to submit comments on or before April 12, 2021.

ADDRESSES: Send written comments on this information collection request (ICR) to the Office of Management and Budget's Desk Officer for the Department of the Interior by email at OIRA_Submission@omb.eop.gov; or via facsimile to (202) 395-5806. Please provide a copy of your comments to Phadrea Ponds, NPS Information Collection Clearance Officer, 1201 Oakridge Drive Fort Collins, CO 80525; or by email at phadrea_ponds@nps.gov or NPS_ICR@nps.gov. Please reference Office of Management and Budget (OMB) Control Number 1024-(NEW) NHA in the subject line of your comments.

FOR FURTHER INFORMATION CONTACT: To request additional information about this ICR, contact Elizabeth Vehmeyer, Assistant Coordinator, National Heritage Area (NHA) Program by email at elizabeth_vehmeyer@nps.gov, or by telephone at 202-354-2215. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 15, 2020 (85 FR 29481). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: National Heritage Areas (NHAs) are designated by Congress as places of natural, cultural, and historic significance. Authorized by the Historic Sites Act of 1935 (54 U.S.C. Ch. 3201), the NPS NHA Program is responsible for tracking the performance and progress of each heritage area in implementing its management plans and goals. The reporting forms in the collection will track performance metrics needed to distribute funds and report on heritage area management and budgetary activities as directed by Congress.

NHAs combine conservation, recreation, and economic development to form a cohesive, nationally important landscape. The NHA Program currently includes 55 heritage areas. To track the performance of each NHA and facilitate mandated financial reporting, the NPS is requesting to use the two reporting forms listed below to collect information used to monitor the progress of each heritage area.

• NPS Form 10-320 Annual Program Report—Part I Funding Report: This form is used to allocate Heritage Partnership Program (HPP) funds and prepare the annual NPS Budget Justification in response to directives from Congress. The information gathered includes required non-federal match sources; organizational sustainability planning; Heritage Area accomplishments and any challenges using the HPP funds.

• NPS Form 10-231 Annual Program Report—Part II Progress Report: This form tracks progress and informs individual heritage area evaluations.

Title of Collection: National Heritage Areas Program Annual Reporting Forms.

OMB Control Number: 1024-NEW.

Form Number: NPS 10-320 and NPS 10-321.

Type of Review: A new collection in use without OMB Approval.

Respondents/Affected Public: NHA Coordinating Entities; Not-for-profit entities; Federal Commissions; Institutions of Higher Education; State and local governments.

Total Estimated Number of Annual Respondents: 55.

Total Estimated Number of Annual Responses: 110.

Estimated Completion Time per Response: Varies from 10 hours to 45 hours, depending on activity.

Total Estimated Number of Annual Burden Hours: 3,025.

Respondent's Obligation: Required to obtain or retain a benefit.

Frequency of Collection: Annually.

Total Estimated Annual Nonhour Burden Cost: None.

Respondent and forms | Annual number of responses | Average completion time per form | Total burden (hours) *
Part I Financial Report (Form 10-320):
NHA Coordinating Entities—Private | 43 | 10 | 430
NHA Coordinating Entities—Local/State Gov | 12 | 15 | 180
Subtotal | 55 |  | 610
Part II Progress Report (Form 10-321):
NHA Coordinating Entities—Private | 43 | 45 | 1,935
NHA Coordinating Entities—Local/State Gov | 12 | 40 | 480
Subtotal | 55 |  | 2,415
Total | 110 |  | 3,025

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2021-05077 Filed 3-10-21; 8:45 am]

BILLING CODE 4312-52-P